DEPARTMENT OF STATE

[Public Notice: 10465]

Town Hall Meeting on Modernizing the Columbia River Treaty Regime

AGENCY: Department of State.

ACTION: Notice of meeting.

SUMMARY: The Department of State (Department) will hold a Town Hall meeting in Portland, Oregon, to discuss the modernization of the Columbia River Treaty (CRT) regime.

DATES: The meeting will be held on September 6, 2018, from 5:30 p.m. to approximately 7:00 p.m., Pacific Time.

ADDRESSES: The meeting will be held in the Bonneville Power Administration's Rates Hearing Room, 1201 Lloyd Blvd. Suite 200, Portland, OR 97232.

FOR FURTHER INFORMATION CONTACT: Susan May, ColumbiaRiverTreaty@state.gov, 202-647-2170.

SUPPLEMENTARY INFORMATION: This Town Hall is part of the Department's public engagement on the modernization of the CRT regime. The meeting is open to the public, up to the capacity of the room. Requests for reasonable accommodation should be made to the email listed above, on or before August 30, 2018. The Department will consider requests made after that date, but might not be able to accommodate them. Information regarding the proposed agenda, and other information about the meeting, can be found at https://www.state.gov/p/wha/ci/ca/topics/c78892.htm or by emailing the email address listed above. If you are unable to attend in person, you can listen to the Town Hall via phone by calling 1-888-330-1716 and entering the passcode 19431467#.

Cynthia A. Kierscht,
Director, Office of Canadian Affairs, Department of State.

[FR Doc. 2018-15306 Filed 7-17-18; 8:45 am]

BILLING CODE 4710-29-P